NUCLEAR REGULATORY COMMISSION

Fifth International MACCS Users' Group Meeting

AGENCY: Nuclear Regulatory Commission.

ACTION: 5th International MACCS Users' Group Meeting.

SUMMARY: The Nuclear Regulatory Commission (NRC) will conduct the 5th International MACCS Users' Group (IMUG) Meeting, on March 10, 2006, at a location near the NRC's Headquarters in Rockville, Maryland. The meeting will begin at 8:30 a.m. and will be open to public observation.

FOR FURTHER INFORMATION CONTACT: Jocelyn Mitchell; e-mail: jam@nrc.gov; telephone: (301) 415-5289; Office of Nuclear Regulatory Research, Mail Stop T-9C34, USNRC, Washington, DC 20555-0001. Additional information and a registration form can be found at the NRC's Web site: www.nrc.gov/publicinvolve/conferences.html.

SUPPLEMENTARY INFORMATION: The purpose of the meeting is for users of MACCS (MELCOR Accident Consequence Code System) to exchange information about the use of MACCS and about recent code developments. There will be no charge for registration for the conference, but, for planning purposes, registration is required. Anyone wishing to present information relevant to MACCS or its use in consequence estimation should contact Jocelyn Mitchell to be included in the agenda.

For the Nuclear Regulatory Commission.
Dated at Rockville, Maryland, this 17th day of October, 2005.
William R. Ott,
Acting Chief, Radiation Protection, Environmental Risk and Waste Management Branch, Division of Risk Analysis and Applications, Office of Nuclear Regulatory Research.

[FR Doc. E5-5797 Filed 10-20-05; 8:45 am]

BILLING CODE 7590-01-P